ENVIRONMENTAL PROTECTION AGENCY

40 CFR Part 52

[EPA-R05-OAR-2018-0103; FRL-9992-20-Region 5]

Air Plan Approval; Ohio; Removal of Obsolete Gasoline Volatility Regulations

AGENCY: Environmental Protection Agency (EPA).

ACTION: Final rule.

SUMMARY: The Environmental Protection Agency (EPA) is approving a request submitted by the Ohio Environmental Protection Agency (Ohio EPA) on February 5, 2018, to revise the Ohio State Implementation Plan (SIP) under the Clean Air Act (CAA). Ohio EPA requested to remove from the SIP the remaining provisions of the Ohio Administrative Code (OAC) concerning the State's 7.8 pounds per square inch (psi) Reid vapor pressure (RVP) fuel requirements for the Cincinnati and Dayton areas. EPA proposed to approve this request in a notice of proposed rulemaking (NPRM) dated December 26, 2018. In a previous action, EPA approved the removal of the 7.8 psi RVP fuel applicability requirements in the Cincinnati and Dayton areas as a component of the Ohio SIP, including the approval of a demonstration under section 110(l) of the CAA that addressed emissions impacts associated with the removal of the program.

DATES: This final rule is effective on May 13, 2019.

ADDRESSES: EPA has established a docket for this action under Docket ID No. EPA-R05-OAR-2018-0103. All documents in the docket are listed in the http://www.regulations.gov website. Although listed in the index, some information is not publicly available, e.g., Confidential Business Information or other information whose disclosure is restricted by statute. Certain other material, such as copyrighted material, is not placed on the internet and will be publicly available only in hard copy form. Publicly available docket materials are available either through http://www.regulations.gov, or please contact the person identified in the FOR FURTHER INFORMATION CONTACT section for additional availability information.

FOR FURTHER INFORMATION CONTACT: Francisco J. Acevedo, Mobile Source Program Manager, Control Strategies Section, Air Programs Branch (AR-18J), Environmental Protection Agency, Region 5, 77 West Jackson Boulevard, Chicago, Illinois 60604, (312) 886-6061, acevedo.francisco@epa.gov.

SUPPLEMENTARY INFORMATION: Throughout this document whenever “we,” “us,” or “our” is used, we mean EPA.

I. Background

On December 19, 2016, Ohio EPA submitted a SIP revision requesting that EPA approve the removal of the 7.8 psi RVP fuel applicability requirements from the Ohio SIP before the beginning of the 2017 ozone control period. The revision also included a section 110(l) demonstration addressing the emissions impacts associated with the removal of the program. On April 7, 2017 (82 FR 16932), EPA approved the removal from the Ohio SIP of the 7.8 psi RVP fuel applicability requirements in the Cincinnati and Dayton areas. In that action EPA determined that removal of the 7.8 psi RVP fuel requirements would not interfere with attainment or maintenance of any of the National Ambient Air Quality Standards in the Cincinnati and Dayton areas and would not interfere with any other applicable requirement of the CAA, and thus, was approvable under CAA section 110(l).

Subsequently, Ohio EPA submitted a request to EPA on February 5, 2018 to remove the remaining low RVP requirements from the Ohio SIP. The NPRM provided a 30-day review and comment period. The comment period closed on January 25, 2019, and EPA did not receive any comments during the public comment period.

II. What action is EPA taking?

EPA is approving the revision to the Ohio SIP submitted by Ohio EPA on February 5, 2018, because the removal of remaining low RVP requirements in OAC Chapter 3745-72 from the SIP meets all applicable requirements and it would not interfere with reasonable further progress or attainment of any of the national ambient air quality standards.

The removal of the remaining provisions in OAC Chapter 3745-72 from the SIP are administrative in nature; will result in no emissions increases and not have any negative impact on air quality in the Cincinnati and Dayton areas.

III. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by June 11, 2019. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Incorporation by reference, Intergovernmental relations, Nitrogen oxides, Ozone, Volatile organic compounds.

Dated: March 26, 2019.
Cathy Stepp,
Regional Administrator, Region 5.

40 CFR part 52 is amended as follows:

PART 52—APPROVAL AND PROMULGATION OF IMPLEMENTATION PLANS

1. The authority citation for part 52 continues to read as follows:

Authority: 42 U.S.C. 7401 et seq.

§ 52.1870 [Amended]

2. In § 52.1870, the table in paragraph (c) is amended by removing the heading entitled “Chapter 3745-72 Low Reid Vapor Pressure Fuel Requirements” and the entries “3745-72-01” through “3745-72-08”.

[FR Doc. 2019-07330 Filed 4-11-19; 8:45 am]

BILLING CODE 6560-50-P